DEPARTMENT OF THE INTERIOR

Bureau of Land Management

[NV-056-5853-ES; N-77814, N-77815, N-77816, N-77818, N-77819; 7-08807]

Notice of Realty Action: Recreation and Public Purposes Act Classification of Public Lands in Clark County, NV

AGENCY: Bureau of Land Management, Interior.

ACTION: Notice of realty action.

SUMMARY: The Bureau of Land Management (BLM) has examined and found suitable for classification for lease or subsequent conveyance under the provisions of the Recreation and Public Purposes (R&PP) Act, as amended, approximately 37.5 acres of public land in five individual parcels in Clark County, Nevada. The United States Postal Service proposes to use the land for five post offices.

DATES: Interested parties may submit written comments concerning the proposed lease/conveyance or classification of the lands until October 12, 2007.

ADDRESSES: Send written comments to the Field Manager, Bureau of Land Management, Las Vegas Field Office, 4701 N. Torrey Pines Drive, Las Vegas, NV 89130.

FOR FURTHER INFORMATION CONTACT: Brenda Warner, BLM Las Vegas Field Office, at (702) 515-5084.

SUPPLEMENTARY INFORMATION: In response to five applications submitted by the United States Postal Service, the BLM has examined and found suitable for classification for lease or subsequent conveyance for public postal facilities under the provisions of the R&PP Act, as amended (43 U.S.C. 869 et seq.). In accordance with Section 7 of the Taylor Grazing Act (43 U.S.C. 317f) and Executive Order 6910, the BLM has examined and hereby found suitable for classification for purposes of [lease and/or conveyance] under the provisions of the R&PP Act, as amended (43 U.S.C. 869 et seq.). These five parcels of land located in the Las Vegas metropolitan area are classified accordingly and described below:

N-77814, 10-acre postal facility located at the northwest corner of the intersection of Hickham Avenue and Fort Apache Road, legally described as:

Mount Diablo Meridian, Nevada

T. 20 S., R. 60 E.,

Sec. 06, SE¼NE¼SE¼.

N-77815, 10-acre postal facility located generally south of the intersection of South Las Vegas Blvd. and Larson Lane, legally described as:

Mount Diablo Meridian, Nevada

T. 23 S., R. 61 E.,

Sec. 17, NE¼NE¼NE¼.

N-77816, 5-acre postal facility located at the southwest corner of the intersection of Jones Blvd. and Pyle Avenue, legally described as:

Mount Diablo Meridian, Nevada

T. 22 S., R. 60 E.,

Sec. 26, E½NE¼NE¼SE¼.

N-77818, 5-acre postal facility located at the southeast corner of the intersection of Durango Avenue and Bob Fisk Avenue, legally described as:

Mount Diablo Meridian, Nevada

T. 22 S., R. 60 E.,

Sec. 21, S½NW¼SW¼SW¼.

N-77819, 7.5-acre postal facility located at the northwest corner of the intersection of Rainbow Blvd. and Torino Avenue, legally described as:

Mount Diablo Meridian, Nevada

T. 22 S., R. 60 E.,

Sec. 15, N½NE¼SE¼SE¼, SE¼NE¼SE¼SE¼.

The areas described above contain 37.5 acres, more or less, in Clark County, Nevada.

The design and architecture of the postal facilities will be single story and similar to the facility constructed at Jones Avenue and Azure Drive. Each of the proposed post offices include a 24,532 square foot building, a carrier loading slab, public, employee and carrier parking and low water use landscaping. Construction of each facility will take approximately one year. N-77816 and N-77818 will be constructed shortly after the lease is authorized. The remaining sites will be constructed approximately three to six years later. The land is not required for any federal purpose. The lease/conveyance is consistent with the Las Vegas Resource Management Plan, dated October 5, 1998, and would be in the public interest. The lease/conveyance, when issued, will be subject to the provisions of the R&PP Act and applicable regulations of the Secretary of the Interior and will contain the following reservations to the United States:

1. A right-of-way thereon for ditches and canals constructed by the authority of the United States, Act of August 30, 1890 (43 U.S.C. 945); and

2. All minerals together with the right to prospect for, mine and remove such deposits from the same under applicable law and such regulations as the Secretary of the Interior may prescribe.

And will be subject to:

N-77814:

1. Valid and existing rights;

2. Right-of-way N-60735 for road purposes granted to Clark County, its successors or assigns, pursuant to the Act of December 5, 1924 (43 Stat. 0672);

3. Right-of-way N-61629 for transmission line purposes granted to Nevada Power Co., its successors or assigns, pursuant to the Act of October 21, 1976 (43 U.S.C. 1761); and

4. Right-of-way N-76536 for road purposes granted to Clark County, its successors or assigns, pursuant to the Act of December 5, 1924 (43 Stat. 0672).

N-77815:

1. Valid and existing rights;

2. Right-of-way NVCC-019435 for Federal Aid Highway purposes granted to Nevada Dept. of Transportation, its successors or assigns, pursuant to the Act of August 27, 1958 (72 Stat. 0892);

3. Right-of-way Nev-056213 for oil and gas pipeline granted to CalNev Pipeline Co., its successors or assigns, pursuant to the Act of February 25, 1920 (30 U.S.C. 185 sec. 28);

4. Right-of-way N-07100 for oil and gas pipeline purposes granted to CalNev Pipeline Co., its successors or assigns, pursuant to the Act of February 25, 1920 (30 U.S.C. 185 sec. 28);

5. Right-of-way N-43923 for fiber optic facility purposes granted to MCI WorldCom Network Inc., its successors or assigns, pursuant to the Act of October 21, 1976 (43 U.S.C. 1761);

6. Right-of-way N-47888 for fiber optic facility purposes granted to Central Telephone Co., its successors or assigns, pursuant to the Act of October 21, 1976 (43 U.S.C. 1761);

7. Right-of-way N-43923 for fiber optic facility purposes granted to AT&T R/W RM PA165., its successors or assigns, pursuant to the Act of October 21, 1976 (43 U.S.C. 1761); and

8. Right-of-way N-76066 for road purposes granted to Clark County, its successors or assigns, pursuant to the Act of December 5, 1924 (43 Stat. 0672).

N-77816:

1. Valid and existing rights;

2. Right-of-way N-73694 for water facility purposes granted to Clark County Water Reclamation District, its successors or assigns, pursuant to the Act of October 21, 1976 (43 U.S.C. 1761);

3. Right-of-way N-74485 for water facility purposes granted to Las Vegas Valley Water Distict, its successors or assigns, pursuant to the Act of October 21, 1976 (43 U.S.C. 1761);

4. Right-of-way N-75392 for oil and gas pipeline purposes granted to Southwest Gas Corp., its successors or assigns, pursuant to the Act of February 25, 1920 (30 U.S.C. 185 sec. 28);

5. Right-of-way N-76755 for water facility purposes granted to Clark County, its successors or assigns, pursuant to the Act of October 21, 1976 (43 U.S.C. 1761); and

6. Right-of-way N-81384 for water facility purposes granted to Clark County Water Reclamation District, its successors or assigns, pursuant to the Act of October 21, 1976 (43 U.S.C. 1761).

N-77818:

1. Valid and existing rights;

2. Right-of-way N-75246 for road purposes granted to Clark County, its successors or assigns, pursuant to the Act of October 21, 1976 (43 U.S.C. 1761);

3. Right-of-way N-77199 for water facility purposes granted to Clark County Water Reclamation District, its successors or assigns, pursuant to the Act of October 21, 1976 (43 U.S.C. 1761);

4. Right-of-way N-77507 for water facility purposes granted to Las Vegas Valley Water District, its successors or assigns, pursuant to the Act of October 21, 1976 (43 U.S.C. 1761);

5. Right-of-way N-77554 for telephone line purposes granted to Central Telephone Co., its successors or assigns, pursuant to the Act of October 21, 1976 (43 U.S.C. 1761);

6. Right-of-way N-77845 for transmission line purposes granted to Nevada Power Co., its successors or assigns, pursuant to the Act of October 21, 1976 (43 U.S.C. 1761);

7. Right-of-way N-77953 for oil and gas pipeline purposes granted to Southwest Gas Corp., its successors or assigns, pursuant to the Act of February 25, 1920 (30 U.S.C. 185 sec. 28); and

8. Right-of-way N-78923 for drainage facility purposes granted to Clark County, its successors or assigns, pursuant to the Act of October 21, 1976 (43 U.S.C. 1761).

N-77819:

1. Valid and existing rights;

2. Right-of-way N-61873 for road purposes granted to Clark County, its successors or assigns, pursuant to the Act of October 21, 1976 (43 U.S.C. 1761);

3. Right-of-way N-74322 for road purposes granted to Clark County, its successors or assigns, pursuant to the Act of October 21, 1976 (43 U.S.C. 1761); and

4. Right-of-way N-77199 for water facility purposes granted to Clark County Water Reclamation District, its successors or assigns, pursuant to the Act of October 21, 1976 (43 U.S.C. 1761).

Additional detailed information concerning this action is available for review at the Bureau of Land Management, Las Vegas Field Office, at the above address.

On August 28, 2007, the above described land will be segregated from all other forms of appropriation under the public land laws, including the general mining laws, except for lease/conveyance under the R&PP Act, leasing under the mineral leasing laws, and disposal under the mineral material disposal laws.

Classification Comments: Interested parties may submit comments involving the suitability of the land for postal facility sites. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision to lease/convey under the R&PP Act, or any other factor not directly related to the suitability of the land for post offices.

Comments, including names and addresses of respondents, will be available for public review. Before including your address, phone number, e-mail address, or other personal identifying information in your comments, be advised that your entire comment—including your personal identifying information—may be made publicly available at any time. While you can ask us in your comment to withhold your personal identifying information from public review, we cannot guarantee that we will be able to do so. The BLM will make available for public review, in their entirety, all comments submitted by businesses or organizations, including comments by individuals in their capacity as an official or representative of a business or organization. Any adverse comments will be reviewed by the BLM Nevada State Director, who may sustain, vacate, or modify this realty action. In the absence of any adverse comments, the classification will become effective on October 29, 2007. The lands will not be available for lease/conveyance until after the classification becomes effective.

(Authority: 43 CFR part 2741)

Dated: August 17, 2007.
Kimber Liebhauser,
Acting Assistant Field Manager, Lands.

[FR Doc. E7-17007 Filed 8-27-07; 8:45 am]

BILLING CODE 4310-HC-P